FEDERAL MARITIME COMMISSION

National Shipper Advisory Committee March 2024 Meeting

AGENCY: Federal Maritime Commission.

ACTION: Notice of Federal Advisory Committee meeting.

SUMMARY: Notice is hereby given of a meeting of the National Shipper Advisory Committee (NSAC), pursuant to the Federal Advisory Committee Act. The Committee advises the Federal Maritime Commission. The meeting will be held for the purpose of soliciting information, insight, and expertise pertaining to conditions in the ocean freight delivery system relevant to the Commission.

DATES: The Committee will meet in-person in Long Beach, CA, on March 6, 2024, from 2:30 p.m. until 4:30 p.m. Pacific Time. Please note that this meeting may adjourn early if the Committee has completed its business.

ADDRESSES: The meeting will be held at the Long Beach Convention Center located at 300 E Ocean Blvd., Long Beach, CA 90802. This meeting will follow the TPM Conference and will be open to the public. Members of the public do not need to register for the TPM Conference in order to attend the NSAC meeting. The meeting will also stream virtually. Please email nsac@fmc.gov by March 4 at 5:00 p.m. Eastern to receive a virtual link.

FOR FURTHER INFORMATION CONTACT: Mr. Dylan Richmond, Designated Federal Officer of the National Shipper Advisory Committee, phone: (202) 523-5810; email: drichmond@fmc.gov.

SUPPLEMENTARY INFORMATION:

Background: The National Shipper Advisory Committee is a federal advisory committee. It operates under the provisions of the Federal Advisory Committee Act, 5 U.S.C. App., and 46 U.S.C. chapter 425. The Committee was established on January 1, 2021, when the National Defense Authorization Act for Fiscal Year 2021 became law. Public Law 116-283, section 8604, 134 Stat. 3388 (2021). The Committee provides information, insight, and expertise pertaining to conditions in the ocean freight delivery system to the Commission. Specifically, the Committee advises the Federal Maritime Commission on policies relating to the competitiveness, reliability, integrity, and fairness of the international ocean freight delivery system. 46 U.S.C. 42502(b).

The Committee will receive an update from each of its subcommittees. The Committee will also take public comment in the meeting. The next section will describe comments the NSAC requests from members of the public.

Public Comments: The Committee will take public comment at its meeting and are particularly interested in receiving feedback on the following items.

• What issues in your supply chain are the most important/troubling/in need of attention for you?

• What issues do you want to see NSAC address?

• What issues do you want to see the FMC address?

Comments are most helpful to the NSAC if they address the above questions and will be limited to 3 minutes each.

Members of the public may also submit written comments to NSAC at any time. Comments should be addressed to NSAC, c/o Dylan Richmond, Federal Maritime Commission, 800 North Capitol St. NW, Washington, DC 20573 or nsac@fmc.gov.

A copy of all meeting documentation, including meeting minutes, will be available at www.fmc.gov following the meeting.

By the Commission.
Dated: February 21, 2024.
David Eng,
Secretary.

[FR Doc. 2024-03895 Filed 2-27-24; 8:45 am]

BILLING CODE 6730-02-P